FEDERAL RESERVE SYSTEM

Formations of, Acquisitions by, and Mergers of Bank Holding Companies; Correction

This notice corrects a notice (FR Doc. 01-12376) published on page 27144 of the issue for Wednesday, May 16, 2001.

Under the Federal Reserve Bank of Richmond heading, the entry for First Union Corporation, Charlotte, North Carolina, is revised to read as follows:

A. Federal Reserve Bank of Richmond (A. Linwood Gill, III, Vice President) 701 East Byrd Street, Richmond, Virginia 23261-4528:

1. First Union Corporation, Charlotte, North Carolina, to merge with Wachovia Corporation, Winston-Salem, North Carolina, and thereby indirectly acquire voting shares of Wachovia Bank, National Association, Winston-Salem, North Carolina; Wachovia Acquisition Corporation 2001-01, Winston-Salem, North Carolina; Republic Security Bank, West Palm Beach, Florida; and First National Bank of Atlanta, New Castle, Delaware (d/b/a Wachovia Bank Card Services). First Union also requests approval to exercise an option to acquire up to 19.9 percent of the voting shares of Wachovia Corporation under certain circumstances.

In connection with this application, Applicant also has applied to acquire Atlantic Savings Bank, FSB, Hilton Head Island, South Carolina, and thereby engage in operating a savings association, pursuant to § 225.28(b)(4)(ii) of Regulation Y.

Comments on this application must be received by June 11, 2001.

Board of Governors of the Federal Reserve System, May 23, 2001.
Robert deV. Frierson
Associate Secretary of the Board.

[FR Doc. 01-13476 Filed 5-29-01; 8:45 am]

BILLING CODE 6210-01-S